DEPARTMENT OF COMMERCE

International Trade Administration

[A-533-810]

Stainless Steel Bar From India: Preliminary Results of New Shipper Review; 2023

AGENCY: Enforcement and Compliance, International Trade Administration, Department of Commerce.

SUMMARY: The U.S. Department of Commerce (Commerce) is conducting a new shipper review (NSR) of Welspun Specialty Solutions Limited (Welspun) regarding the antidumping duty (AD) order on stainless steel bar (SS Bar) from India. The period of review (POR) is February 1, 2023, through July 31, 2023. We have preliminarily determined that Welspun's sales were bona fide transactions and were not made below normal value (NV). Interested parties are invited to comment on these preliminary results.

DATES: Applicable August 13, 2024.

FOR FURTHER INFORMATION CONTACT: Joshua Weiner, AD/CVD Operations, Office I, Enforcement and Compliance, International Trade Administration, U.S. Department of Commerce, 1401 Constitution Avenue NW, Washington, DC 20230; telephone: (202) 482-3902.

SUPPLEMENTARY INFORMATION:

Background

On February 21, 1995, Commerce published in the Federal Register the antidumping duty order on SS Bar from India.¹ On August 31, 2023, pursuant to section 751(a)(2)(B)(i) of the Tariff Act of 1930, as amended (the Act), and 19 CFR 351.214(c), Commerce received a timely NSR request from Welspun.² Based on Welspun's NSR request and supplemental information, we published in the Federal Register a notice of initiation of the NSR. On March 5, 2024, Commerce extended the deadline to issue the preliminary results of this NSR by 120 days, to July 25, 2024, in accordance with section 751(a)(2)(B)(iv) of the Act and 19 CFR 351.214(i)(2).³ On July 22, 2024, Commerce tolled certain deadlines in this administrative proceeding by seven days.⁴ The deadline for the preliminary results is now August 1, 2024.

¹ See Antidumping Duty Orders: Stainless Steel Bar from Brazil, India and Japan, 60 FR 9661 (February 21, 1995) (Order).

² See Welspun's Letter, “Request for New Shipper Review,” dated August 31, 2023.

³ See Commerce's Letter, “Extension of Deadline for Preliminary Results,” dated March 5, 2024.

⁴ See Memorandum, “Tolling of Deadlines for Antidumping and Countervailing Duty Proceedings,” dated July 22, 2024.

For a complete description of the events that followed the initiation of this NSR, see the Preliminary Decision Memorandum.⁵ A list of topics included in the Preliminary Decision Memorandum is included as an appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁵ See Memorandum, “Decision Memorandum for the Preliminary Results in the New Shipper Review of Welspun” dated concurrently with, and hereby adopted by, this notice (Preliminary Decision Memorandum).

Scope of the Order

The product covered by the Order is SS Bar from India. For a complete description of the scope of the Order, see the Preliminary Decision Memorandum.

Methodology

Commerce conducted this review in accordance with section 751 of the Act. For a full description of the methodology underlying the preliminary results, see the Preliminary Decision Memorandum.

Verification

As provided in 19 CFR 351.307(b)(iv), Commerce verified the information submitted by Welspun in advance of these preliminary results.⁶

⁶ See Memorandum, “Verification of the Questionnaire Sales Responses,” dated July 16, 2024 (Verification Report).

Preliminary Results of NSR

As a result of this NSR, Commerce preliminarily determines the following estimated weighted-average dumping margin exists for the period, February 1, 2023, through July 31, 2023.

Exporter/producer | Weighted- average dumping margin (percent)
Welspun Specialty Solutions Limited | 0.00

Disclosure and Public Comment

Commerce intends to disclose its calculations and analysis performed to interested parties in these preliminary results within five days of any public announcement or, if there is no public announcement, within five days of the date of publication of this notice in accordance with 19 CFR 351.224(b).

Case briefs or other written comments may be submitted to the Assistant Secretary for Enforcement and Compliance no later than thirty days after the publication of the Federal Register notice regarding these preliminary results.⁷ Rebuttal briefs, limited to issues raised in the case briefs, may be filed not later than five days after the date for filing case briefs.⁸ Interested parties who submit case briefs or rebuttal briefs in this proceeding must submit: (1) a table of contents listing each issue; and (2) a table of authorities.⁹

⁷ See 19 CFR 351.309(c)(ii).

⁸ See 19 CFR 351.309(d); see also Administrative Protective Order, Service, and Other Procedures in Antidumping and Countervailing Duty Proceedings, 88 FR 67069, 67077 (September 29, 2023) (APO and Service Final Rule).

⁹ See 19 351.309(c)(2) and (d)(2).

As provided under 19 CFR 351.309(c)(2) and (d)(2), in prior proceedings we have encouraged interested parties to provide an executive summary of their brief that should be limited to five pages total, including footnotes. In this NSR, we instead request that interested parties provide at the beginning of their briefs a public, executive summary for each issue raised in their briefs.¹⁰ Further, we request that interested parties limit their public executive summary of each issue to no more than 450 words, not including citations. We intend to use the public executive summaries as the basis of the comment summaries included in the issues and decision memorandum that will accompany the final results in this NSR. We request that interested parties include footnotes for relevant citations in the public executive summary of each issue. Note that Commerce has amended certain of its requirements pertaining to the service of documents in 19 CFR 351.303(f).¹¹

¹⁰ We use the term “issue” here to describe an argument that Commerce would normally address in a comment of the Issues and Decision Memorandum.

¹¹ See APO and Service Final Rule.

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. If a request for a hearing is made, Commerce intends to hold the hearing at a time and date to be determined. Parties should confirm by telephone the date, time, and location of the hearing two days before the scheduled date.

An electronically filed hearing request must be received successfully in its entirety by Commerce's electronic records system, ACCESS, by 5:00 p.m. Eastern Time within 30 days after the date of publication of this notice.¹²

¹² See 19 CFR 351.310(c).

Commerce intends to issue the final results of this NSR, including the results of its analysis of issues raised in any written briefs, no later than 90 days after the date of issuance of these preliminary results, unless extended, pursuant to section 751(a)(2)(B)(iv) of the Act.

Assessment Rates

Upon issuing the final results of this review, Commerce will determine, and U.S. Customs and Border Protection (CBP) shall assess, antidumping duties on all appropriate entries covered by this review.¹³ If the respondent's weighted-average dumping margin is zero or de minimis in the final results, Commerce will instruct CBP to liquidate the appropriate entries without regard to duties. If the respondent's weighted-average dumping margin is above de minimis (i.e., 0.5 percent) in the final results of this review, Commerce will calculate importer-specific (or customer-specific) assessment rates on the basis of the ratio of the total amount of dumping calculated for the importer's examined sales to the total entered value of those sales, in accordance with 19 CFR 351.212(b)(1). If an importer-specific rate is zero or de minimis, Commerce will instruct CBP to liquidate the appropriate entries without regard to antidumping duties.

¹³ See 19 CFR 351.212(b).

Commerce intends to issue assessment instructions to CBP no earlier than 35 days after the date of publication of the final results of this NSR in the Federal Register. If a timely summons is filed at the U.S. Court of International Trade, the assessment instructions will direct CBP not to liquidate relevant entries until the time for parties to file a request for a statutory injunction has expired (i.e., within 90 days of publication).

Cash Deposit Instructions

The following cash deposit requirements will be effective upon publication of the final results of this review for shipments of the subject merchandise from India entered, or withdrawn from warehouse, for consumption on or after the publication date, as provided by section 751(a)(2)(C) of the Act: (1) for subject merchandise produced and exported by Welspun, the cash deposit rate will be the rate established for Welspun in the final results of this NSR (except, if the rate is zero or de minimis, then no cash deposit will be required); ¹⁴ (2) for subject merchandise exported by Welspun, but not produced by Welspun, the cash deposit rate will be the producer's rate, or the all others rate (i.e., 12.45 percent) ¹⁵ if the producer does not have its own rate; and (3) for subject merchandise produced by Welspun, but not exported by Welspun, the cash deposit rate will be the rate applicable to the exporter, or the all other's rate if the exporter does not have its own rate. These cash deposit requirements, when imposed, shall remain in effect until further notice.

¹⁴ See Certain Cut-To-Length Carbon-Quality Steel Plate Products from the Republic of Korea: Preliminary Results of Antidumping Duty Administrative and New Shipper Reviews and Rescission of Administrative Review, In Part; 2014-2015, 81 FR 12870 (March 11, 2016).

¹⁵ See Order, 60 FR at 9661.

Notification to Importers

This notice also serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results of NSR in accordance with sections 751(a)(2)(B) and 777(i)(1) of the Act and 19 CFR 351.214.

Dated: August 1, 2024.
Ryan Majerus,
Deputy Assistant Secretary for Policy and Negotiations, performing the non-exclusive functions and duties of the Assistant Secretary for Enforcement and Compliance.

Appendix

List of Topics Discussed in the Preliminary Decision Memorandum

I. Summary

II. Background

III. Scope of the Order

IV. Discussion of Methodology

V. Currency Conversion

VI. Recommendation

[FR Doc. 2024-17999 Filed 8-12-24; 8:45 am]

BILLING CODE 3510-DS-P